ENVIRONMENTAL PROTECTION AGENCY

[EPA-HQ-OPPT-2018-0604; FRL-9990-36]

Materials Supporting the Colour Index (C. I.) Pigment Violet 29 Risk Evaluation; Notice of Availability and Comment Opportunity

AGENCY: Environmental Protection Agency (EPA).

ACTION: Notice.

SUMMARY: EPA is announcing the availability of updated systematic review supplemental files with data evaluation scoring sheets, as supporting documents for the draft risk evaluation for Colour Index (C. I.) Pigment Violet 29 (PV29) under the Toxic Substances Control Act (TSCA). EPA has already made 24 full study reports on PV29 available to the public, in some instances with information withheld as confidential business information (CBI) pursuant to EPA regulations. EPA is seeking public comment on the draft risk evaluation for PV29 in light of the additional materials already made or being made publicly available. These materials have been considered in the risk evaluation process of PV29, and EPA has also submitted these materials to the TSCA Science Advisory Committee on Chemicals (SACC). Comments submitted will be considered by the agency and also provided to the TSCA SACC peer review panel, which will have the opportunity to consider the comments during its discussions.

DATES: Comments must be received on or before April 17, 2019.

ADDRESSES: Submit your comments, identified by Docket Identification (ID) Number EPA-HQ-OPPT-2018-0604, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: For technical information contact: Stanley Barone Jr., Office of Pollution Prevention and Toxics (7403M), Environmental Protection Agency, 1200 Pennsylvania Ave. NW, Washington, DC 20460-0001; telephone number: (202) 564-1169; email address: barone.stan@epa.gov.

For general information contact: The TSCA-Hotline, ABVI-Goodwill, 422 South Clinton Ave., Rochester, NY 14620; telephone number: (202) 554-1404; email address: TSCA-Hotline@epa.gov.

SUPPLEMENTARY INFORMATION:

I. Does this action apply to me?

This action is directed to the public in general. This action may be of interest to persons who are interested in risk evaluations of existing chemical substances under the Toxic Substances Control Act (TSCA) in general, and PV29 in particular. Since other persons may also be interested in this, the Agency has not attempted to describe all that may be interested in this action.

II. What action is the agency taking?

EPA is announcing the availability of updated systematic review supplemental file with data evaluation scoring sheets which are available in Docket ID No. EPA-HQ-OPPT-2018-0604 at http://www.regulations.gov. EPA is seeking public comment on the draft risk evaluation for PV29 in light of the additional materials being made publicly available. These materials have been considered in the risk evaluation process of PV29 and all comments received in response to this solicitation will be provided to the TSCA SACC for consideration during their peer review.

III. What should I consider as I prepare my comments for EPA?

A. Submitting CBI

Do not submit CBI information to EPA through regulations.gov or via email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information marked as CBI will not be disclosed except in accordance with procedures set forth in 40 CFR part 2.

B. Tips for Preparing Your Comments

When preparing and submitting your comments, see the commenting tips at http://www.epa.gov/dockets/comments.html.

Authority: 15 U.S.C. 2601 et seq.

Dated: April 11, 2019.
Alexandra Dapolito Dunn,
Assistant Administrator, Office of Chemical Safety and Pollution Prevention.

[FR Doc. 2019-07708 Filed 4-16-19; 8:45 am]

BILLING CODE 6560-50-P